DEPARTMENT OF LABOR

Employment and Training Administration

[TA-W-71,226; TA-W-71,226A]

Tempel Steel Company Including On-Site Leased Workers From Aerotek Staffing Chicago, IL; Tempel Steel Company Including On-Site Leased Workers From Aerotek Staffing Libertyville, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 23, 2009, applicable to workers of Tempel Steel Company, including on-site leased workers from Aerotek Staffing, Chicago, Illinois. The notice was published in the Federal Register on December 11, 2009 (74 FR 65799).

At the request of a company official, the Department reviewed the certification for workers of the subject firm. The workers are engaged in the production of lamination sheet steel for electric motors and transformers.

New findings show that worker separations occurred at the Libertyville, Illinois location of the subject firm during the relevant time period.

Accordingly, the Department is amending the certification to include workers of the Libertyville, Illinois location of Temple Steel Company and on-site leased workers from Aerotek Staffing.

The intent of the Department's certification is to include all workers of the subject firm who were adversely affected by a shift in production of lamination sheet steel for electric motors and transformers to Mexico.

The amended notice applicable to TA-W-71,226 and TA-W-71,226A are hereby issued as follows:

All workers of Tempel Steel Company, including on-site leased workers from Aerotek Staffing, Chicago, Illinois (TA-W-71,226) and Tempel Steel Company, including on-site leased workers from Aerotek Staffing, Libertyville, Illinois (TA-W-71,226A), who became totally or partially separated from employment on or after June 15, 2008, through October 7, 2011, and all workers in the group threatened with total or partial separation from employment on date of certification through two years from the date of certification, are eligible to apply for adjustment assistance under Chapter 2 of Title II of the Trade Act of 1974, as amended.

Signed in Washington, DC, this 13th day of January 2010.
Michael W. Jaffe,
Certifying Officer, Division of Trade Adjustment Assistance.

[FR Doc. 2010-1890 Filed 1-29-10; 8:45 am]

BILLING CODE 4510-FN-P